DEPARTMENT OF COMMERCE

National Oceanic and Atmospheric Administration

50 CFR Part 300

[Docket No. 040617186-4302; I.D. 120704A]

International Fisheries; Pacific Tuna Fisheries; Restrictions for 2004 Purse Seine and Longline Fisheries in the Eastern Tropical Pacific Ocean

AGENCY: National Marine Fisheries Service (NMFS), National Oceanic and Atmospheric Administration (NOAA), Department of Commerce.

Action: Fishing closure, restrictions.

SUMMARY: NMFS publishes this document to prevent overfishing of bigeye tuna in the eastern tropical Pacific Ocean (ETP), consistent with recommendations by the Inter-American Tropical Tuna Commission (IATTC) that have been approved by the Department of State (DOS) under the Tuna Conventions Act. NMFS hereby closes the U.S. longline fishery for bigeye tuna in the Convention Area for the remainder of 2004 because the bigeye tuna catch in the Convention Area has reached the reported level of catch made in 2001. This action is intended to limit fishing mortality on bigeye tuna stock caused by longline fishing in the Convention Area and contribute to the long-term conservation of bigeye tuna stock at levels that support healthy fisheries.

DATES: Effective from December 13, 2004 through the end of the 2004 fishing season, unless NMFS publishes a superceding document in the Federal Register.

ADDRESSES: Southwest Regional Administrator, Southwest Region, NMFS, 501 W. Ocean Blvd., Suite 4200, Long Beach, CA 90902-4213.

This Federal Register document is also accessible via the Internet at the Office of the Federal Register's website at http://www.gpoaccess.gov/.

FOR FURTHER INFORMATION CONTACT: J. Allison Routt, Sustainable Fisheries Division, Southwest Region, NMFS, (562) 980-4030.

SUPPLEMENTARY INFORMATION: The United States is a member of the IATTC, which was established under the Convention for the Establishment of an Inter-American Tropical Tuna Commission signed in 1949 (Convention). The IATTC was established to provide an international arrangement to ensure the effective international conservation and management of highly migratory species of fish in the Convention Area. The Convention Area is defined to include the waters of the ETP bounded by the coast of the Americas, the 40° N. and 40° S. parallels, and the 150° W. meridian. The IATTC has maintained a scientific research and fishery monitoring program for many years and annually assesses the status of stocks of tuna and the fisheries to determine appropriate harvest limits or other measures to prevent overexploitation of tuna stocks and promote viable fisheries. Under the Tuna Conventions Act, 16 U.S.C. 951-962, NMFS must publish regulations to carry out IATTC recommendations and resolutions that have been approved by DOS. A proposed rule and request for comments was published in the Federal Register (69 FR 122) on June 25, 2004, and a final rule was published on November 12, 2004 (69 FR 65382). The Southwest Regional Administrator also is required by regulations at 50 CFR 300.29(b)(3) to issue a direct notice to the owners or agents of U.S. vessels that operate in the ETP of actions recommended by the IATTC and approved by the DOS. Notices to the fleet were issued in October 2003, May 2004, and again in October 2004 regarding these actions.

The November 12, 2004, final rule provides that the U.S. longline fishery for bigeye tuna in the Convention Area will close for the remainder of calendar year 2004 if the catch of bigeye tuna by U.S. longline vessels in the Convention Area reaches 150 mt, which is the amount estimated to have been caught by the U.S. longline fishery in the Convention Area in 2001. Specifically, once the fishery is closed upon reaching the 2001 catch level, no bigeye tuna may be caught and retained by U.S. longline vessels in the Convention Area during the remainder of calendar year 2004.

NMFS has determined that the 150 mt catch level has been reached and hereby closes the U.S. longline fishery for bigeye tuna in the Convention Area for the remainder of the year 2004. It is therefore prohibited for a U.S. longline vessel to catch and retain bigeye tuna in the Convention Area from the effective date of this action through December 31, 2004.

Authority: 16 U.S.C. 951-962.

Dated: December 7, 2004.
Alan D. Risenhoover,
Acting Director, Office of Sustainable Fisheries, National Marine Fisheries Service.

[FR Doc. 04-27177 Filed 12-9-04; 8:45 am]

BILLING CODE 3510-22-S